DEPARTMENT OF COMMERCE

National Oceanic and Atmospheric Administration

RIN 0648-AX70

Fisheries of the Northeastern United States; Monkfish Fishery; Scoping Process

AGENCY: National Marine Fisheries Service (NMFS), National Oceanic and Atmospheric Administration (NOAA), Commerce.

ACTION: Notice of intent to prepare an environmental impact statement (EIS) and notice of initiation of scoping process; request for comments.

SUMMARY: The New England and Mid-Atlantic Fishery Management Councils (Councils) announce their intent to prepare an amendment (Amendment 5) to the Fishery Management Plan (FMP) for Monkfish (Lophius americanus) and to prepare an EIS to analyze the impacts of any proposed management measures. In general, the goals of the amendment are to bring the FMP into compliance with the new requirements of the reauthorized Magnuson-Stevens Fishery Conservation and Management Act (Magnuson Stevens Act), specifically to establish annual catch limits (ACLs) and accountability measures (AMs), and to manage the fishery at long-term sustainable levels. The Councils are initiating a public process to determine the scope of alternatives to be addressed in the amendment and EIS. The purpose of this notification is to alert the interested public of the commencement of the scoping process and to provide for public participation in compliance with environmental documentation requirements.

DATES: Written and electronic scoping comments must be received on or before 5 pm., local time, March 31, 2009.

ADDRESSES: Written comments on Amendment 5 may be sent by any of the following methods:

• E-mail to the following address: monkfish.five@noaa.gov;

• Mail to Patricia A. Kurkul, Regional Administrator, NMFS, Northeast Regional Office, 55 Great Republic Drive, Gloucester, MA 01930. Mark the outside of the envelope “Scoping Comments on Monkfish Amendment 5;” or

• Fax to Patricia A. Kurkul, 978-281-9135.

Requests for copies of the scoping document and other information should be directed to Paul J. Howard, Executive Director, New England Fishery Management Council, 50 Water Street, Mill 2, Newburyport, MA 01950, telephone 978-465-0492. The scoping document is accessible electronically via the Internet at http://www.nefmc.org.

FOR FURTHER INFORMATION CONTACT: Paul J. Howard, Executive Director, New England Fishery Management Council, 978-465-0492.

SUPPLEMENTARY INFORMATION:

Background

The U.S. monkfish fishery is jointly managed by both Councils, with the NEFMC having the administrative lead. The Councils manage monkfish under a two-area program (northern and southern), primarily due to differences in the characteristics of the fisheries in the two areas, and no conclusive evidence exists supporting the idea that there are two biological stocks. The Councils first adopted management measures for the monkfish fishery in 1998, and the Monkfish FMP became effective on November 8, 1999. The Councils have modified the management program several times since the original FMP was adopted, most recently in 2007-2008 with the adoption of Framework Adjustments 4, 5, and 6.

While a significant portion of the monkfish catch in both areas is incidental to other fishing activities, a directed fishery (i.e., vessels fishing under monkfish days-at-sea (DAS)) also exists which targets monkfish. The Councils currently manage the directed fishery through a combination of DAS allocations and trip limits and have adopted incidental catch possession limits for all non-directed fisheries (i.e., vessels retaining the incidental catch of monkfish while not fishing under a DAS). The basis for setting effort controls on the directed fishery is a target total allowable catch (TTAC), from which the portion expected to be caught by the incidental-catch component of the fishery is subtracted before the directed fishery portion is calculated in order to minimize discards in the incidental catch fisheries.

In Framework Adjustment 4, the Councils adopted a 3-year TTAC specification for fishing years 2007 through 2009, and included a provision that those TTACs would remain in effect beyond that time if new specifications had not yet been adopted. Based on the anticipated effectiveness date of Amendment 5 (2011), the current TTACs will remain in effect under that extension provision through the 2010 fishing year (ending April 30, 2010). The TTACs are 5,000 mt and 5,100 mt for northern and southern management areas, respectively. The current allocation of DAS and the directed fishery trip limits are based on those TTACs, after accounting for the anticipated catch in incidental-catch fisheries.

The reauthorized Magnuson-Stevens Act requires that NMFS and the Councils establish ACLs and AMs by the year 2011 for every federally managed fishery that is not subject to overfishing, including monkfish. NMFS has published guidelines for the Councils to use in establishing ACLs, AMs, and other reference points relevant to National Standard 1, to “prevent overfishing while achieving on a continuing basis, the optimum yield from each fishery...” (74 FR 3178, January 16, 2009). This amendment is necessary, therefore, to update the Monkfish FMP to bring it into compliance with the reauthorized Magnuson-Stevens Act, and to adopt new multi-year TTAC specifications in a manner that is consistent with the new requirements of the reauthorized Magnuson-Stevens Act.

Measures Under Consideration

The Councils will consider alternatives for setting ACLs, AMs, and other management reference points, in compliance with the reauthorized Magnuson-Stevens Act and under the guidelines for National Standard 1. Among the reference points the Councils will adopt is the Acceptable Biological Catch (ABC), which will be based on the recommendation of the NEFMC's Scientific and Statistical Committee (SSC). The SSC will consider scientific uncertainty in the specification of ABC so that the catch will not exceed the overfishing limit. In determining the appropriate AMs, the NEFMC will consider management uncertainty such that the AMs prevent the catch from exceeding the ACL, or account for any overage in the event catches do exceed the ACL. The ACLs and AMs will serve as the basis for the management program, whether that is a continuation of the current DAS and trip limits system, or an alternative approach, such as described below.

In addition to addressing the reauthorized Magnuson-Stevens Act requirements in Amendment 5, and in response to public requests, the Councils are considering revising the management program from the current DAS and trip limits, to one based on individual transferrable quotas (ITQs) and/or one that allows for the formation of sectors in the monkfish fishery. While the Councils have stated that work on these two alternatives will commence only after development work on the other requirements is complete, it is accepting public comment during this scoping phase so that work on these alternatives can begin immediately upon completion of the primary components of the amendment.

The reauthorized Magnuson-Stevens Act authorizes and provides a regulatory framework for Councils to establish Limited Access Privilege Programs (LAPPs), of which ITQs are one type. In addition to the requirements and standards for all LAPPs, the reauthorized Magnuson-Stevens Act requires the NEFMC specifically to hold a referendum and gain approval of more than two thirds of the voters for an ITQ program prior to submitting the plan to NMFS. The Councils would recommend who is eligible to participate in the referendum from among the potential pool that includes permit holders and crew members who derive a significant part of their total income from the fishery under the proposed program. If an ITQ system is adopted, the Councils would allocate individual proportions of the available catch to qualified participants who would then be allowed, under yet-unspecified terms and restrictions, to buy, sell, trade, or otherwise transfer their shares to other participants.

With regards to sectors, the NEFMC has already adopted two sector management programs in the Northeast Multispecies FMP, and is considering adopting additional sectors in that fishery and in other FMPs under its authority. The NEFMC has also adopted a Sector Policy that establishes overall guidelines, requirements and restrictions that apply to all of the sector programs adopted under its individual FMPs. Under sector management programs, vessels may join together in an organized group, a “sector,” to maximize the efficiency with which they harvest the available catch. Vessels electing to join a sector bring to the group a potential sector contribution which is an individual proportion of the total available catch for the sector species, and the vessels pool and redistribute their contribution in the manner of their choosing, subject to NMFS' approval. Under sector management, vessels may be exempt from many, but not all of the restrictions and rules that apply to non-sector vessels.

Scoping Process

All persons affected by or otherwise interested in monkfish fishery management are invited to participate in determining the scope and significance of issues to be analyzed by submitting written comments (see ADDRESSES) or by attending one of the meetings where scoping comments will be taken. Scoping consists of identifying the range of actions, alternatives (including taking no action), and impacts to be considered in developing an amendment that addresses the purposes and goals discussed in this notice. Impacts may be direct, indirect, or cumulative. This scoping process will also identify and eliminate from detailed analysis issues that are not significant, as well as alternatives that do not achieve the goals of the FMP or this amendment.

After the scoping process is completed, the Councils will identify the range of alternatives to be considered and analyzed in the Amendment 5 document and EIS. Once a draft amendment document, including a Draft EIS, is completed, the Councils will hold public hearings to receive comments on the alternatives and the analysis of its impacts presented in the Draft EIS. Following that public comment period, the Councils will identify their proposed action and complete a final amendment document that includes a Final EIS, as well as documentation and analysis required by all other applicable laws. The Councils will then submit the amendment to NMFS for review, approval and implementation. To meet the reauthorized Magnuson-Stevens Act mandated implementation date of 2011, the Councils intend to submit the final amendment document in mid-2010.

Scoping Hearing Schedule

The Councils will discuss and take scoping comments at the following public meetings:

1. Monday, February 23, 2009, 4 p.m.; Annisquam River Marine Fisheries Station, 30 Emerson Avenue, Gloucester, MA 01930, telephone: 978-282-0308.

2. Tuesday, February 24, 2009, 10 a.m.; Hilton Garden Inn (Hillsborough Room), One Thurber Road, Warwick, RI 02886; telephone: 401-734-9600.

3. Tuesday, March 3, 2009, 7 p.m.; Holiday Inn, 151 Route 72 East, Manahawkin, NJ 08050; telephone: 609-481-6100.

4. Friday, March 6, 2009, 1 p.m.; Maine Fishermen's Forum, Samoset Resort, 220 Warrenton Street, Rockport, ME 04856; telephone: 207-594-2511.

Special Accommodations

The meetings are accessible to people with physical disabilities. Requests for sign language interpretation or other auxiliary aids should be directed to Paul J. Howard (see ADDRESSES) at least 5 days prior to this meeting date.

Authority: 16 U.S.C. 1801 et seq.

Dated: February 13, 2009.
Emily H. Menashes,
Acting Director, Office of Sustainable Fisheries, National Marine Fisheries Service.

[FR Doc. E9-3701 Filed 2-19-09; 8:45 am]

BILLING CODE 3510-22-S